DEPARTMENT OF COMMERCE

International Trade Administration

[A-549-822]

Certain Frozen Warmwater Shrimp From Thailand: Final Results of Antidumping Duty Administrative Review; Final Determination of No Shipments; 2015-2016

AGENCY: Enforcement and Compliance, International Trade Administration, Department of Commerce.

SUMMARY: On March 6, 2017, the Department of Commerce (the Department) published the preliminary results of the 2015-2016 administrative review of the antidumping duty order on certain frozen warmwater shrimp from Thailand. The review covers 160 producers/exporters of the subject merchandise. The period of review (POR) is February 1, 2015, through January 31, 2016.

We gave interested parties an opportunity to comment on the preliminary results. After analyzing the comments received, our final results remain unchanged from the preliminary results. Finally, we find that four companies had no shipments of subject merchandise during the POR.

DATES: Effective July 3, 2017.

FOR FURTHER INFORMATION CONTACT: Andrew Medley or Alice Maldonado, AD/CVD Operations, Office II, Enforcement and Compliance, International Trade Administration, U.S. Department of Commerce, 1401 Constitution Avenue NW., Washington, DC 20230; telephone: (202) 482-4987 and (202) 482-4682, respectively.

SUPPLEMENTARY INFORMATION:

Background

The review covers 160 producers/exporters of the subject merchandise. The respondents which the Department selected for individual examination are Mayao ¹ and Thai Union/Pakfood.² The respondents which were not selected for individual examination are listed in the “Final Results of the Review” section of this notice.

¹ Mayao consists of the following companies: A Foods 1991 Co., Limited and May Ao Foods Co., Ltd.

² Thai Union/Pakfood consists of the following companies: Thai Union Group Public Co., Ltd. (also known as Thai Union Frozen Products Public Co., Ltd.), Thai Union Seafood Company Limited, Pakfood Public Company Limited, Asia Pacific (Thailand) Co., Ltd., Chaophraya Cold Storage Co. Ltd., Okeanos Co. Ltd., Okeanos Food Co. Ltd., and Takzin Samut Co. Ltd.

On March 6, 2017, the Department published the Preliminary Results.³ We invited parties to comment on the preliminary results of the review.⁴ In April 2017, we received a case brief from Mayao and certain of the individual companies comprising Thai Union/Pakfood (collectively, the respondents); ⁵ we also received a rebuttal brief from the Ad Hoc Shrimp Trade Action Committee (the petitioner). The Department conducted this administrative review in accordance with section 751 of the Tariff Act of 1930, as amended (the Act).

³ See Certain Frozen Warmwater Shrimp From Thailand; Preliminary Results of Antidumping Duty Administrative Review and Preliminary Determination of No Shipments; 2015-2016, 82 FR 12540 (March 6, 2017) (Preliminary Results).

⁴ Id.

⁵ Thai Union/Pakfood's case brief was not filed on behalf of the following companies which are included in the Thai/Union/Pakfood collapsed entity: Asia Pacific (Thailand) Co., Ltd., Chaophraya Cold Storage Co. Ltd., Okeanos Food Co. Ltd., and Takzin Samut Co. Ltd.

Scope of the Order

The merchandise subject to the order is certain frozen warmwater shrimp.⁶ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁶ For a complete description of the Scope of the Order, see the memorandum from Gary Taverman, Deputy Assistant Secretary for Antidumping and Countervailing Duty Operations, to Ronald K. Lorentzen, Acting Assistant Secretary for Enforcement and Compliance, entitled, “Issues and Decision Memorandum for the Final Results of the Antidumping Duty Administrative Review of Certain Frozen Warmwater Shrimp from Thailand,” (dated concurrently with these results) (Issues and Decision Memorandum), which is hereby adopted by this notice.

Analysis of Comments Received

All issues raised in the case briefs by parties are listed in the Appendix to this notice and addressed in the Issues and Decision Memorandum. Parties can find a complete discussion of these issues and the corresponding recommendations in the Issues and Decision memorandum, which is on file electronically via Enforcement and Compliance's Antidumping and Countervailing Duty Centralized Electronic Service System (ACCESS). ACCESS is available to registered users at https://access.trade.gov, and to all parties in the Central Records Unit, Room B8024 of the main Department of Commerce building. In addition, a complete version of the Issues and Decision Memorandum can be accessed directly at http://enforcement.trade.gov/frn/. The signed and electronic versions of the Issues and Decision Memorandum are identical in content.

Determination of No Shipments

As noted in the Preliminary Results, we received no shipment claims from five companies involved in this administrative review: Calsonic Kansei (Thailand) Co., Ltd. (Calsonic Kansei); Grobest Frozen Foods Co., Ltd. (Grobest); Lucky Union Foods Co., Ltd. (Lucky Union); Marine Gold Products Ltd. (Marine Gold); and Thai Union Manufacturing Company Limited (Thai Union Manufacturing). In the Preliminary Results, we preliminarily determined that four of these companies (i.e., Calsonic Kansei, Lucky Union, Marine Gold, and Thai Union Manufacturing) had no reviewable transactions during the POR.⁷ We received no comments from interested parties with respect to these claims. Therefore, because the record indicates that these companies did not export subject merchandise to the United States during the POR, we continue to find that Calsonic Kansei, Lucky Union, Marine Gold, and Thai Union Manufacturing had no reviewable transactions during the POR.

⁷ See Preliminary Results, 82 FR at 12540.

With respect to the remaining company (i.e., Grobest), in the Preliminary Results, we found insufficient evidence on the record to conclude that this company made no shipments of subject merchandise during the POR. As a result, we preliminarily included Grobest in the administrative review.⁸ Because we received no comments from interested parties with respect to this determination, we continue to include Grobest in this administrative review.

⁸ Id.

Final Results of the Review

We are assigning the following dumping margins to the respondents for the period February 1, 2015, through January 31, 2016, as follows:

⁹ On January 5, 2016, the Department found that Thai Union Group Public Co., Ltd. is the successor-in-interest to Thai Union Frozen Products Public Co., Ltd. See Notice of Final Results of Antidumping Duty Changed Circumstances Review: Certain Frozen Warmwater Shrimp from Thailand, 81 FR 222 (January 5, 2016).

Producer/exporter | Dumping margin (percent)
A Foods 1991 Co., Limited/May Ao Foods Co., Ltd | 1.23
Thai Union Frozen Products Public Co., Ltd 9/Thai Union Group Public Co., Ltd./Thai Union Seafood Co., Ltd./Pakfood Public Company Limited/Okeanos Food Co., Ltd./Okeanos Co. Ltd./Asia Pacific (Thailand) Co., Ltd.,/Chaophraya Cold Storage Co. Ltd./Takzin Samut Co. Ltd | 0.51

Review-Specific Average Rate Applicable to the Following Non-Selected Companies: ¹⁰

¹⁰ This rate is based on the rates for the respondents that were selected for individual review, excluding rates that are zero, de minimis or based entirely on facts available. See section 735(c)(5)(A) of the Act.

Producer/exporter | Dumping margin (percent)
A. Wattanachai Frozen Products Co., Ltd | 0.81
A.P. Frozen Foods Co., Ltd | 0.81
A.S. Intermarine Foods Co., Ltd | 0.81
ACU Transport Co., Ltd | 0.81
Ampai Frozen Foods Co., Ltd | 0.81
Anglo-Siam Seafoods Co., Ltd | 0.81
Apex Maritime (Thailand) Co., Ltd | 0.81
Apitoon Enterprise Industry Co., Ltd | 0.81
Applied DB | 0.81
Asian Seafood Coldstorage (Sriracha) | 0.81
Asian Seafoods Coldstorage Public Co., Ltd./Asian Seafoods Coldstorage (Suratthani) Co., Limited/STC Foodpak Ltd | 0.81
Assoc. Commercial Systems | 0.81
B.S.A. Food Products Co., Ltd | 0.81
Bangkok Dehydrated Marine Product Co., Ltd | 0.81
C Y Frozen Food Co., Ltd | 0.81
C.P. Mdse | 0.81
C.P. Merchandising Co., Ltd./Charoen Pokphand Foods Public Co., Ltd./Klang Co., Ltd./Seafoods Enterprise Co., Ltd./Thai Prawn Culture Center Co., Ltd | 0.81
CP Retailing and Marketing Co., Ltd | 0.81
C.P. Intertrade Co. Ltd | 0.81
Calsonic Kansei (Thailand) Co., Ltd | (*)
Century Industries Co., Ltd | 0.81
Chaivaree Marine Products Co., Ltd | 0.81
Chaiwarut Company Limited | 0.81
Charoen Pokphand Foods Public Co., Ltd | 0.81
Charoen Pokphand Petrochemical Co., Ltd | 0.81
Chonburi LC | 0.81
Chue Eie Mong Eak | 0.81
Commonwealth Trading Co., Ltd | 0.81
Core Seafood Processing Co., Ltd | 0.81
C.P.F. Food Products Co., Ltd | 0.81
Crystal Frozen Foods Co., Ltd | 0.81
Crystal Seafood | 0.81
Daedong (Thailand) Co. Ltd | 0.81
Daiei Taigen (Thailand) Co., Ltd | 0.81
Daiho (Thailand) Co., Ltd | 0.81
Dynamic Intertransport Co., Ltd | 0.81
Earth Food Manufacturing Co., Ltd | 0.81
F.A.I.T. Corporation Limited | 0.81
Far East Cold Storage Co., Ltd | 0.81
Fimex VN | 0.81
Findus (Thailand) Ltd | 0.81
Fortune Frozen Foods (Thailand) Co., Ltd | 0.81
Frozen Marine Products Co., Ltd | 0.81
Gallant Ocean (Thailand) Co., Ltd | 0.81
Gallant Seafoods Corporation | 0.81
Global Maharaja Co., Ltd | 0.81
Golden Sea Frozen Foods Co., Ltd | 0.81
Golden Thai Imp. & Exp. Co., Ltd | 0.81
Good Fortune Cold Storage Co. Ltd | 0.81
Good Luck Product Co., Ltd | 0.81
Grobest Frozen Foods Co., Ltd | 0.81
Gulf Coast Crab Intl | 0.81
H.A.M. International Co., Ltd | 0.81
Haitai Seafood Co., Ltd | 0.81
Handy International (Thailand) Co., Ltd | 0.81
Heng Seafood Limited Partnership | 0.81
Heritrade | 0.81
HIC (Thailand) Co., Ltd | 0.81
High Way International Co., Ltd | 0.81
I.S.A. Value Co., Ltd | 0.81
I.T. Foods Industries Co., Ltd | 0.81
Inter-Oceanic Resources Co., Ltd | 0.81
Inter-Pacific Marine Products Co., Ltd | 0.81
K & U Enterprise Co., Ltd | 0.81
K Fresh | 0.81
K. D. Trading Co., Ltd | 0.81
K.L. Cold Storage Co., Ltd | 0.81
KF Foods Ltd | 0.81
Kiang Huat Sea Gull Trading Frozen Food Public Co., Ltd | 0.81
Kibun Trdg | 0.81
Kingfisher Holdings Ltd | 0.81
Kitchens of the Oceans (Thailand) Company, Ltd | 0.81
Kongphop Frozen Foods Co., Ltd | 0.81
Lee Heng Seafood Co., Ltd | 0.81
Leo Transports | 0.81
Li-Thai Frozen Foods Co., Ltd | 0.81
Lucky Union Foods Co., Ltd | (*)
Magnate & Syndicate Co., Ltd | 0.81
Mahachai Food Processing Co., Ltd | 0.81
Mahachai Marine Foods Co., Ltd | 0.81
Marine Gold Products Ltd 11 | (*)
Merit Asia Foodstuff Co., Ltd | 0.81
Merkur Co., Ltd | 0.81
Ming Chao Ind Thailand | 0.81
N&N Foods Co., Ltd | 0.81
N.R. Instant Produce Co., Ltd | 0.81
Namprik Maesri Ltd. Part | 0.81
Narong Seafood Co., Ltd | 0.81
Nongmon SMJ Products | 0.81
Ongkorn Cold Storage Co., Ltd./Thai-Ger Marine Co., Ltd | 0.81
Pacific Queen Co., Ltd | 0.81
Pakpanang Coldstorage Public Co., Ltd | 0.81
Penta Impex Co., Ltd | 0.81
Pinwood Nineteen Ninety Nine | 0.81
Piti Seafood Co., Ltd | 0.81
Premier Frozen Products Co., Ltd | 0.81
Preserved Food Specialty Co., Ltd | 0.81
Queen Marine Food Co., Ltd | 0.81
Rayong Coldstorage (1987) Co., Ltd | 0.81
S&D Marine Products Co., Ltd | 0.81
S&P Aquarium | 0.81
S&P Syndicate Public Company Ltd | 0.81
S. Chaivaree Cold Storage Co., Ltd | 0.81
S. Khonkaen Food Industry Public Co., Ltd. and/or S. Khonkaen Food Ind. Public | 0.81
S.K. Foods (Thailand) Public Co. Limited | 0.81
Samui Foods Company Limited | 0.81
SB Inter Food Co., Ltd | 0.81
SCT Co., Ltd | 0.81
Sea Bonanza Food Co., Ltd | 0.81
SEA NT'L CO., LTD | 0.81
Seafresh Fisheries/Seafresh Industry Public Co., Ltd | 0.81
Search and Serve | 0.81
Sethachon Co., Ltd | 0.81
Shianlin Bangkok Co., Ltd | 0.81
Shing Fu Seaproducts Development Co | 0.81
Siam Food Supply Co., Ltd | 0.81
Siam Haitian Frozen Food Co., Ltd | 0.81
Siam Intersea Co., Ltd | 0.81
Siam Marine Products Co. Ltd | 0.81
Siam Ocean Frozen Foods Co. Ltd | 0.81
Siam Union Frozen Foods | 0.81
Siamchai International Food Co., Ltd | 0.81
Smile Heart Foods Co. Ltd | 0.81
SMP Products, Co., Ltd | 0.81
Southport Seafood Co., Ltd | 0.81
Star Frozen Foods Co., Ltd | 0.81
Starfoods Industries Co., Ltd | 0.81
Suntechthai Intertrading Co., Ltd | 0.81
Surapon Foodsblic Co., Ltd./Surat Seafoods Public Co., Ltd | 0.81
Surapon Nichirei Foods Co., Ltd | 0.81
Suratthani Marine Products Co., Ltd | 0.81
Suree Interfoods Co., Ltd | 0.81
T.S.F. Seafood Co., Ltd | 0.81
Tep Kinsho Foods Co., Ltd | 0.81
Teppitak Seafood Co., Ltd | 0.81
Tey Seng Cold Storage Co., Ltd | 0.81
Thai Agri Foods Public Co., Ltd | 0.81
Thai Hanjin Logistics Co., Ltd | 0.81
Thai Mahachai Seafood Products Co., Ltd | 0.81
Thai Ocean Venture Co., Ltd | 0.81
Thai Patana Frozen | 0.81
Thai Royal Frozen Food Co., Ltd | 0.81
Thai Spring Fish Co., Ltd | 0.81
Thai Union Manufacturing Company Limited | (*)
Thai World Imports and Exports Co., Ltd | 0.81
Thai Yoo Ltd., Part | 0.81
The Siam Union Frozen Foods Co., Ltd | 0.81
The Union Frozen Products Co., Ltd./Bright Sea Co., Ltd | 0.81
Trang Seafood Products Public Co., Ltd | 0.81
Transamut Food Co., Ltd | 0.81
Tung Lieng Tradg | 0.81
United Cold Storage Co., Ltd | 0.81
UTXI Aquatic Products Processing Company | 0.81
V. Thai Food Product Co., Ltd | 0.81
Wann Fisheries Co., Ltd | 0.81
Xian-Ning Seafood Co., Ltd | 0.81
Yeenin Frozen Foods Co., Ltd | 0.81
ZAFCO TRDG | 0.81
* No shipments or sales subject to this review.

Assessment Rates

The Department shall determine, and U.S. Customs and Border Protection (CBP) shall assess, antidumping duties on all appropriate entries. Pursuant to 19 CFR 351.212(b)(1), where Mayao and Thai Union/Pakfood reported the entered value for their U.S. sales, we calculated importer-specific ad valorem duty assessment rates based on the ratio of the total amount of antidumping duties calculated for the examined sales to the total entered value of the sales for which entered value was reported. Where Mayao and Thai Union/Pakfood did not report entered value, we calculated the entered value in order to calculate the assessment rates.

¹¹ Shrimp produced and exported by Marine Gold were excluded from the antidumping duty order effective February 1, 2012. See Certain Frozen Warmwater Shrimp From Thailand: Final Results of Antidumping Duty Administrative Review, Partial Rescission of Review, and Revocation of Order (in Part); 2011-2012, 78 FR 42497. Accordingly, we are conducting this administrative review with respect to Marine Gold only for shrimp produced in Thailand where Marine Gold acted as either the manufacturer or exporter (but not both).

For the companies which were not selected for individual examination, we used as the assessment rate the average of the cash deposit rates calculated for Mayao and Thai Union/Pakfood.

Consistent with our established practice, for entries of subject merchandise during the POR produced by Mayao, Thai Union/Pakfood, or any of the companies with accepted no shipment claims for which they did not know that the merchandise was destined for the United States, we will instruct CBP to liquidate unreviewed entries at the all-others rate effective during the POR if there is no rate for the intermediate company(ies) involved in the transaction.

The Department intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above; (2) for previously reviewed or investigated companies not listed above, as well as those companies listed in the “Determination of No Shipments” section, the cash deposit rate will continue to be the company-specific rate published for the most recently-completed segment; (3) if the exporter is not a firm covered in this review, a previous review, or the original less-than-fair value investigation, but the manufacturer is, the cash deposit rate will be the rate established for the most recent period for the manufacturer of the merchandise; and (4) the cash deposit rate for all other manufacturers or exporters will continue to be 5.34 percent, the all-others rate made effective by the Section 129 Determination.¹² These deposit requirements, when imposed, shall remain in effect until further notice.

¹² Effective January 16, 2009, there is no longer a cash deposit requirement for certain producers/exporters in accordance with the Implementation of the Findings of the WTO Panel in United States Antidumping Measure on Shrimp from Thailand: Notice of Determination under Section 129 of the Uruguay Round Agreements Act and Partial Revocation of the Antidumping Duty Order on Frozen Warmwater Shrimp from Thailand, 74 FR 5638 (January 30, 2009) (Section 129 Determination).

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(a)(1) and 777(i) of the Act and 19 CFR 351.213(h).

Dated: June 27, 2017.
Ronald K. Lorentzen,
Acting Assistant Secretary for Enforcement and Compliance.

Appendix I

List of Topics Discussed in the Issues and Decision Memorandum

I. Summary

II. Background

III. Scope of the Order

IV. Discussion of the Issues

General Issues

1. Differential Pricing Methodology

2. Ministerial Errors in Draft Customs Instructions

Company-Specific Issues

3. Cost Database for Thai Union/Pakfood

4. General and Administrative Expenses for Thai Union/Pakfood

V. Recommendation

[FR Doc. 2017-13941 Filed 6-30-17; 8:45 am]

BILLING CODE 3510-DS-P